DEPARTMENT OF ENERGY

Federal Energy Regulatory Commission

Notice of Commission Staff Attendance

The Federal Energy Regulatory Commission hereby gives notice that members of the Commission's staff may attend the following meeting related to the transmission planning activities of the North Carolina Transmission Planning Collaborative:

Transmission Advisory Group

June 19, 2012, 1:30 p.m., Local Time.

The above-referenced meeting will be held at:

North Carolina Electric Membership Corporation, 3400 Sumner Boulevard Raleigh, North Carolina.

The above-referenced meeting is open to stakeholders.

Further information may be found at www.nctpc.org.

The discussions at the meeting described above may address matters at issue in the following proceeding:

Docket No. EC11-60, Duke Energy Corporation and Progress Energy, Inc.

For more information, contact Michael Lee, Office of Energy Market Regulation, Federal Energy Regulatory Commission at (202) 502-8658 or michael.lee@ferc.gov.

Dated: June 15, 2012.
Kimberly D. Bose,
Secretary.

[FR Doc. 2012-15251 Filed 6-21-12; 8:45 am]

BILLING CODE 6717-01-P